DEPARTMENT OF ENERGY

Federal Energy Regulatory Commission

[Docket No. EC04-71-000, et al.]

National Energy Gas Transmission, Inc., et al.; Electric Rate and Corporate Filings

March 5, 2004.

The following filings have been made with the Commission. The filings are listed in ascending order within each docket classification.

1. National Energy & Gas Transmission, Inc. and its Public Utility Subsidiaries

[Docket No. EC04-71-000]

Take notice that on March 4, 2004, National Energy & Gas Transmission, Inc., (NEGT) along with its jurisdictional public utility subsidiaries, tendered for filing with the Commission an application pursuant to section 203 of the Federal Power Act for authorization to implement a proposed plan of reorganization filed with the United States Bankruptcy Court for the District of Maryland (Greenbelt Division) all as more fully described in the Application. NEGT states that the Applicants have requested a shortened comment period and expeditious Commission approval.

Comment Date: March 25, 2004.

2. Access Energy Cooperative

[Docket No. ES04-15-000]

Take notice that on March 2, 2003, Access Energy Cooperative (AEC) submitted an application pursuant to section 204 of the Federal Power Act seeking authorization to: (1) Make a long-term borrowing in an amount equal to $450,000 under the U.S. Department of Agriculture's Rural Business and Cooperative Development Service's Rural Economic Development Loan and Grant Program (RED Loan) for the benefit of the Riverside Paper Corporation; and (2) enter into a letter of credit issued by the National Rural Utilities Cooperative Finance Corporation in the amount of $562,500 to secure the RED Loan.

AEC also requests a waiver from the Commission's competitive bidding and negotiated placement requirements at 18 CFR 34.2.

Comment Date: March 19, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-547 Filed 3-11-04; 8:45 am]

BILLING CODE 6717-01-P